ENVIRONMENTAL PROTECTION AGENCY

[OPP-2005-[0070]; FRL-7702-9]

The Association of American Pesticide Control Officials (AAPCO)/State FIFRA Issues Research and Evaluation Group (SFIREG) Working Committee on Pesticide Operations and Management (WC/POM); Notice of Public Meeting

AGENCY: Environmental Protection Agency (EPA).

ACTION: Notice.

SUMMARY: The Association of American Pesticide Control Officials (AAPCO)/State FIFRA Issues Research and Evaluation Group (SFIREG) Working Committee on Pesticide Operations and Management (WC/POM) will hold a 2-day meeting, beginning on April 4, 2005 and ending April 5, 2005. This notice announces the location and times for the meeting and sets forth the tentative agenda topics.

DATES: The meeting will be held on Monday, April 4, 2005 through Tuesday, April 5, 2005 from 8:30 a.m. to 5 p.m.; ends at 12 noon on Tuesday, April 5, 2005.

ADDRESSES: The meeting will be held at The Ocean Plaza Beach Resort, Tybee Island, GA, Telephone number: (912) 786-7777.

FOR FURTHER INFORMATION CONTACT: Georgia A. McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you all parties interested in SFIREG information exchange relationship with EPA regarding important issues related to human health, environmental exposure to pesticides, and insight into EPA's decision-making process are invited and encouraged to attend the meetings and participate as appropriate. Potentially affected entities may include, but are not limited to:

• Those persons who are or may be required to conduct testing of chemical substances under the Federal Food, Drug and Cosmetic Act (FFDCA), or the Federal Insecticide, Fungicide, and Rodenticide Act (FIFRA) Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0070. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

1. Update on American Agricultural Stewardship Alliance activities

2. Consumer Label Improvement Efforts by the Pesticide Program Dialogue Committee

3. 2,4-D Risk Mitigation

4. E-Labeling

5. Fumigant Cluster Review

6.Cholinesterase Testing in the State of Washington

7. Changes to Endangered Species staff and on the progress on implementation

8. Performance Measures

9. POM Working Committee Reports

10. Alternatives to address the cut in Sate and Tribal Assistance Grants (STAG) enforcement dollars

11. Pesticides and Water Issues - National Pollutant Discharge Elimination System (NPDES) and pesticides rulemaking

12. Credentialing staff, needs for health and safety training

13. Unenforceable label statements

14. Report from International Drift Conference

15.. EPA Update/Briefing: a. Office of Pesticide Programs Update b. Office of Enforcement Compliance Assurance Update.

16. POM Working Committee Workgroups issue papers/Updates.

List of Subjects

Environmental protection, insert additional terms as appropriate.

Dated: March 7, 2005.
William R. Diamond,
Director, Field External Affairs Division, Office of Pesticide Programs

[FR Doc. 05-5619 Filed 3-22-05; 8:45 am]

BILLING CODE 6560-50-S